DEPARTMENT OF THE INTERIOR

Bureau of Land Management

[BLM_ID_FRN_MO4500168247]

Notice of Availability of the Draft Environmental Impact Statement for the Proposed Lava Ridge Wind Project in Jerome, Lincoln, and Minidoka Counties, ID

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the draft Environmental Impact Statement (EIS) for the proposed Lava Ridge Wind Project in Jerome, Lincoln, and Minidoka Counties, Idaho.

DATES: To afford the BLM the opportunity to consider comments in the final EIS, please ensure that the BLM receives your comments within 60 days following the date the Environmental Protection Agency (EPA) publishes its Notice of Availability (NOA) of the draft EIS in the Federal Register. The EPA usually publishes its NOAs on Fridays.

ADDRESSES: The draft EIS is available for review on the BLM ePlanning project website at https://bit.ly/3uu3BuV.

Written comments related to the Lava Ridge Wind Project may be submitted by any of the following methods:

• ePlanning Website: https://bit.ly/3uu3BuV.

• Email: BLM_ID_LavaRidge@blm.gov.

• Mail: Lava Ridge Wind Project EIS, BLM Shoshone Field Office, Attn: Kasey Prestwich, 400 West F Street, Shoshone, ID 83352.

Documents pertinent to this proposal may be examined online at: https://bit.ly/3uu3BuV and at the BLM Shoshone Field Office, 400 West F Street, Shoshone, ID 83352.

FOR FURTHER INFORMATION CONTACT: Kasey Prestwich, project manager, telephone 208-732-7204; address BLM Shoshone Field Office, 400 West F Street, Shoshone, ID 83352; email kprestwich@blm.gov. Individuals in the United States who are deaf, deafblind, hard of hearing, or have a speech disability may dial 711 (TTY, TDD, or TeleBraille) to access telecommunications relay services for contacting Mr. Prestwich. Individuals outside the United States should use the relay services offered within their country to make international calls to the point-of-contact in the United States.

SUPPLEMENTARY INFORMATION:

Purpose and Need

Magic Valley Energy, LLC (MVE) has applied for a right-of-way (ROW) grant to construct, operate, maintain, and decommission the Lava Ridge Wind Project (the project), a wind energy facility and ancillary facilities primarily on BLM-administered public lands in Jerome, Lincoln, and Minidoka counties, Idaho. The BLM's purpose is to respond to the ROW application submitted by MVE in compliance with the FLPMA, BLM ROW regulations, and other applicable Federal laws and policies. The need for the BLM's Proposed Action arises from Title V of the FLPMA, which establishes a multiple use mandate for management of Federal lands, including “systems for generation, transmission, and distribution of electric energy” (43 U.S.C 1761).

Proposed Action and Alternatives

The project, as described by the Proposed Action (Alternative B), would be located primarily on public lands administered by the BLM Shoshone Field Office, approximately 25 miles northeast of Twin Falls, Idaho. The project would consist of up to 400 wind turbines and associated infrastructure, including new and improved roads, powerlines for collection and transmission of electricity, substations, operation and maintenance facilities, and a battery storage facility. The project's 500-kilovolt generation intertie transmission line would interconnect at Idaho Power Company's existing Midpoint Substation or at a new substation within the ROW corridor of the northern portion of the Southwest Intertie Project. The project's estimated generation capacity is 1,000 megawatts or more.

The project area spans 197,474 acres and all project components would be sited within a series of corridors. These corridors are approximately one-half mile wide and cover approximately 84,385 acres, of which 75,760 acres are located on public lands managed by the BLM, 2,910 acres are on State lands managed by the Idaho Department of Lands, 5,417 acres are on private lands, and 288 acres are on lands managed by the Bureau of Reclamation. All wind turbines, powerlines, and associated infrastructure would be located on lands managed by the BLM and the Idaho Department of Lands. The Bureau of Reclamation and private lands would include the use of existing public access roads, but no other project related infrastructure. The project infrastructure proposed within the corridors is estimated to have a 2,374-acre footprint and a total disturbance area of 9,114 acres.

Under the No Action Alternative, the Lava Ridge Wind Project would not be authorized and would not be constructed.

The project area of Alternative C would span 146,389 acres and the maximum number of turbines would be 378. Alternative C removes some siting corridors in the southwestern and northern portions of the project area to avoid or minimize potential impacts to Wilson Butte Cave, the Minidoka National Historic Site, and associated impacts to the Native American and Japanese American communities. Alternative C also removes siting corridors in the northern portion of the project area to reduce the potential for fragmenting wildlife habitat.

The project area of Alternative D would be the smallest of all action alternatives at 110,315 acres and the maximum number of turbines would be 280. Alternative D builds on the proposed changes in Alternative C that avoid and minimize potential impacts to Wilson Butte Cave, the Minidoka National Historic Site, and wildlife habitat. Alternative D further reduces potential impacts within wildlife habitat by removing siting corridors located in the eastern portion of the project area that have higher sagebrush cover that provide functional Greater sage-grouse habitat. Also, Alternative D would have substantially fewer wind turbines and less infrastructure than Alternatives B and C. It therefore would reduce the potential for bat and avian mortality and potential conflicts with livestock grazing operations.

The project area of Alternative E would span 122,444 acres and the maximum number of turbines would be 269. Alternative E builds off the proposed changes in Alternative C that avoid or minimize potential impacts to Wilson Butte Cave, the Minidoka National Historic Site, and wildlife habitat. Alternative E would remove siting corridors that are directly east of the Minidoka National Historic Site, resulting in this alternative having the least amount of visual impacts to the historic site. Like Alternative D, the smaller footprint and lower number of turbines would also reduce the potential for bat and avian mortality and potential conflicts with livestock grazing operations.

The BLM has identified Alternatives C and E as the agency's preferred alternatives. In selecting preferred alternatives, the BLM aims to consider project elements that balance energy production with reducing the potential for adverse impacts. Identification of these as the agency's preferred alternatives does not imply that one of these will be selected as the BLM's final decision. Information acquired during the public comment period could identify an alternative that blends elements of the agency's preferred alternatives, incorporates elements of any of the alternatives, or selects any of the five alternatives as the proposed alternative in the final EIS.

Draft EIS Preparation Process

A Notice of Intent to prepare an EIS was published in the Federal Register on August 20, 2021, (86 FR 46867), announcing the beginning of the public scoping process. The scoping period closed on October 20, 2021, and 1,478 comment submissions were received; of those, 1,157 are unique. A scoping report was prepared and is available on the project's ePlanning website https://bit.ly/3uu3BuV.

The scoping process and subsequent feedback received from agency resource specialists, Native American Tribes, cooperating agencies, consulting parties, and interested parties identified a range of concerns to be included in the EIS analysis. Concerns included, but were not limited to the following:

• Potential impacts to the Minidoka National Historic Site and associated impacts to Japanese American communities;

• Potential impacts to Wilson Butte Cave and associated impacts to Native American Tribes;

• Potential impacts to cultural resources associated with Native American habitation and early European-American settlement;

• Potential impacts to the Shoshone-Bannock Tribes' treaty rights, including the rights to hunt and harvest foods, medicines, and materials from their homeland;

• Potential impacts to big game winter range and movement corridors, bats, raptors, and the Greater sage-grouse general habitat management area;

• Potential impacts to permitted livestock grazing operations;

• Potential impacts to transportation networks needed to access the project; and

• Potential socioeconomic impacts.

Lead and Cooperating Agencies

The BLM is the lead agency responsible for completing the EIS and deciding whether to approve, approve with conditions, or deny MVE's request for a ROW grant. Cooperating agencies involved in the development of the draft EIS include the National Park Service, the U.S. Fish and Wildlife Service, the U.S. Army Corps of Engineers, the State of Idaho, and the counties of Jerome, Lincoln, and Minidoka, Idaho.

Schedule for Decision Making Process

The final EIS is tentatively scheduled to be issued in summer 2023, with a Record of Decision in fall 2023.

Public Involvement Process

The BLM will hold virtual and in-person public meetings during the comment period. The date(s) and location(s) of meetings will be announced in advance through local media, email, mail, and the ePlanning project website https://bit.ly/3uu3BuV.

The purpose of public review of the draft EIS is to provide an opportunity for meaningful collaborative public engagement and for the public to provide substantive comments, such as identification of factual errors, data gaps, relevant methods, or scientific studies. You may submit comments at any time during the 60-day comment period by using one of the methods listed in the ADDRESSES section of this notice. The BLM will respond to substantive comments by making appropriate revisions to the EIS or explaining why a comment did not warrant a change.

The BLM will continue to consult with Indian Tribal Nations on a government-to-government basis in accordance with Executive Order 13175, BLM MS 1780, and other Departmental policies. Tribal concerns, including impacts on Indian trust assets and potential impacts to cultural resources, will be given due consideration.

The BLM will use the draft EIS review process to help fulfill the public involvement requirements under the National Historic Preservation Act (54 U.S.C. 306108), as provided in 36 CFR 800.2(d)(3). The information about historic and cultural resources within the area potentially affected by the Proposed Action will assist the BLM in identifying and evaluating impacts to such resources.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Michael C. Courtney,
BLM Twin Falls District Manager.

[FR Doc. 2023-00646 Filed 1-19-23; 8:45 am]

BILLING CODE 4331-19-P